DEPARTMENT OF ENERGY

Federal Energy Regulatory Commission

Combined Notice of Filings #1

June 22, 2009.

Take notice that the Commission received the following electric rate filings:

Docket Numbers: ER99-2416-007.

Applicants: El Paso Electric Company.

Description: Notice of Change in Status of El Paso Electric Company.

Filed Date: 06/19/2009.

Accession Number: 20090619-5108.

Comment Date: 5 p.m. Eastern Time on Friday, July 10, 2009.

Docket Numbers: ER08-1574-007.

Applicants: ORNI 18, LLC.

Description: Notice of Non-Material Change in Status of ORNI 18, LLC.

Filed Date: 06/19/2009.

Accession Number: 20090619-5105.

Comment Date: 5 p.m. Eastern Time on Friday, July 10, 2009.

Docket Numbers: ER09-1154-001.

Applicants: UNS Electric, Inc.

Description: UNS Electric, Inc submits Substitute Second Revised Sheet 90B et al. to FERC Electric Tariff, First Revised Volume 1.

Filed Date: 06/19/2009.

Accession Number: 20090622-0126.

Comment Date: 5 p.m. Eastern Time on Friday, July 10, 2009.

Docket Numbers: ER09-1218-001.

Applicants: Carolina Power & Light Company.

Description: Progress Energy Carolinas, Inc submits for filing a correction to the Attachment 2 cost support for its 5/29/09 filing, which concerns revisions to its cost of service formula rate etc.

Filed Date: 06/15/2009.

Accession Number: 20090619-0083.

Comment Date: 5 p.m. Eastern Time on Monday, July 06, 2009.

Docket Numbers: ER09-1269-001.

Applicants: Escondido Energy Center, LLC.

Description: Escondido Energy Center, LLC submits certain additional information regarding EEC's upstream owner, MMC Energy, Inc. Substitute Original Sheet 1 and 2.

Filed Date: 06/19/2009.

Accession Number: 20090622-0134.

Comment Date: 5 p.m. Eastern Time on Friday, July 10, 2009.

Docket Numbers: ER09-1270-001.

Applicants: Chula Vista Energy Center, LLC.

Description: Chula Vista Energy Center, LLC submits certain additional information regarding CVEC's upstream owner, MMC Energy, Inc, Substitute Original Sheet 1 and 2.

Filed Date: 06/19/2009.

Accession Number: 20090622-0135.

Comment Date: 5 p.m. Eastern Time on Friday, July 10, 2009.

Docket Numbers: ER09-1325-000.

Applicants: Virginia Electric and Power Company.

Description: Dominion Virginia Power submits Original Service Agreement 2190 to FERC Electric Tariff, Sixth Revised Volume 1.

Filed Date: 06/18/2009.

Accession Number: 20090619-0131.

Comment Date: 5 p.m. Eastern Time on Thursday, July 09, 2009.

Docket Numbers: ER09-1326-000.

Applicants: Southern Company Services, Inc.

Description: Southern Companies submits a network integration transmission service agreement under the Open Access Transmission Tariff of Southern Companies.

Filed Date: 06/19/2009.

Accession Number: 20090619-0130.

Comment Date: 5 p.m. Eastern Time on Friday, July 10, 2009.

Docket Numbers: ER09-1327-000.

Applicants: PJM Interconnection LLC.

Description: PJM Interconnection, LLC submits First Revised Service Agreement No 2020 to FERC Electric Tariff, Sixth Revised Volume 1.

Filed Date: 06/18/2009.

Accession Number: 20090619-0084.

Comment Date: 5 p.m. Eastern Time on Thursday, July 09, 2009.

Docket Numbers: ER09-1328-000.

Applicants: Midwest Independent Transmission System.

Description: Midwest Independent Transmission System Operator, Inc submits executed amended and restated large generator interconnection agreement among the Midwest ISO, Quilt Block, et al.

Filed Date: 06/18/2009.

Accession Number: 20090619-0136.

Comment Date: 5 p.m. Eastern Time on Thursday, July 09, 2009.

Docket Numbers: ER09-1331-000.

Applicants: Tucson Electric Power Company.

Description: Tucson Electric Power Company submits Third Revised Sheet No 96B et al to FERC Electric Tariff, Fourth Revised Volume 2, effective June 19, 2009.

Filed Date: 06/19/2009.

Accession Number: 20090622-0031.

Comment Date: 5 p.m. Eastern Time on Friday, July 10, 2009.

Docket Numbers: ER09-1332-000.

Applicants: MidAmerican Energy Company.

Description: MidAmerican Energy Company submits an agreement governing joint ownership of facilities entitled joint Investment and Ownership Agreement for Grimes-Granger 161kV Projects etc.

Filed Date: 06/19/2009.

Accession Number: 20090622-0032.

Comment Date: 5 p.m. Eastern Time on Friday, July 10, 2009.

Docket Numbers: ER09-1333-000.

Applicants: PacifiCorp.

Description: PacifiCorp submits a Large Generator Interconnection Agreement Facilities Maintenance Agreement dated 6/9/09 to be designated as Service Agreement 573, Seventh Revised Volume 11 etc with PacifiCorp Energy.

Filed Date: 06/19/2009.

Accession Number: 20090622-0133.

Comment Date: 5 p.m. Eastern Time on Friday, July 10, 2009.

Docket Numbers: ER09-1334-000.

Applicants: Midwest Independent Transmission System Operator, Inc.

Description: Midwest Independent Transmission System Operator, Inc submits Third Revised Agreement No 1694 et al to FERC Electric Tariff, Fourth Revised Volume 1.

Filed Date: 06/19/2009.

Accession Number: 20090622-0101.

Comment Date: 5 p.m. Eastern Time on Friday, July 10, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-15260 Filed 6-26-09; 8:45 am]

BILLING CODE 6717-01-P